DEPARTMENT OF AGRICULTURE

Food and Nutrition Service

7 CFR Parts 210, 215, 220, 225, and 226

RIN 0584-AE72

Streamlining Program Requirements and Improving Integrity in the Summer Food Service Program

AGENCY: Food and Nutrition Service (FNS), USDA.

ACTION: Proposed rule; extension of comment period.

SUMMARY: This rulemaking proposes to amend the Summer Food Service Program (SFSP) regulations to strengthen program integrity by codifying in regulations changes that have been tested through policy guidance and by streamlining requirements among Child Nutrition Programs. These changes update important definitions, simplify the application process, enhance monitoring requirements, and provide more discretion at the State agency level to manage program operations. The intended effect of this rulemaking is to clarify, simplify, and streamline program administration in order to facilitate compliance with program requirements. The original comment period for this proposed rule, published on January 23, 2020, ends on March 23, 2020. FNS is extending the comment period through April 22, 2020.

DATES: The comment period of the proposed rule published January 23, 2020 at 85 FR 4094 has been extended through April 22, 2020. To be assured of consideration, comments must be received on or before April 22, 2020.

ADDRESSES: The Food and Nutrition Service, USDA, invites interested persons to submit written comments on this proposed rule. Comments may be submitted in writing by one of the following methods:

• Preferred Method: Federal eRulemaking Portal: Go to http://www.regulations.gov. Follow the online instructions for submitting comments.

• Mail: Andrea Farmer, Chief, Community Meals Branch, Policy and Program Development Division, USDA Food and Nutrition Service, 1320 Braddock Place, Alexandria, VA 22314.

All written comments submitted in response to this proposed rule will be included in the record and will be made available to the public. Please be advised that the substance of the comments and the identity of the individuals or entities submitting the comments will be subject to public disclosure. FNS will make the written comments publicly available on the internet via http://www.regulations.gov.

FOR FURTHER INFORMATION CONTACT: Andrea Farmer, Chief, Community Meals Branch, Policy and Program Development Division, USDA Food and Nutrition Service, 1320 Braddock Place, Alexandria, VA 22314, 703-305-2590.

SUPPLEMENTARY INFORMATION: The Food and Nutrition Service (FNS) is reopening the public comment period for this proposed rule, which was published on January 23, 2020 at 85 FR 4094. The Coronavirus Disease 2019 (COVID-19) outbreaks have had a strong impact on schools, state agencies, stakeholders and others who are working tirelessly to ensure children receive meals in light of school closures. USDA wants to give these parties, and the public at large, additional time to provide feedback on these proposed reforms.

Dated: March 16, 2020.
Pamilyn Miller,
Administrator, Food and Nutrition Service.

[FR Doc. 2020-05978 Filed 3-23-20; 8:45 am]

BILLING CODE 3410-30-P